DEPARTMENT OF AGRICULTURE

Natural Resources Conservation Service

Big Delta State Historical Park Streambank Protection Project, Big Delta, AK

AGENCY: Natural Resources Conservation Service, USDA.

ACTION: Finding of No Significant Impact according to the Environmental Assessment.

SUMMARY: Pursuant to Section 102(2)(C) of the National Environmental Policy Act of 1969; the Council on Environmental Quality Guidelines (40 CFR part 1500); and the Natural Resources Conservation Service Guidelines (7 CFR part 650); the Natural Resources Conservation Service, U.S. Department of Agriculture, gives notice of a Finding of No Significant Impact according to the Environmental Assessment of the Big Delta State Historical Park Streambank Protection Project.

DATES: July 9, 2005.

FOR FURTHER INFORMATION CONTACT: Robert Jones, State Conservationist, Natural Resources Conservation Service, 800 West Evergreen, Suite 100, Palmer, Alaska, 99645-6539, telephone: 907-761-7760.

SUPPLEMENTARY INFORMATION: The Environmental Assessment of this Federally assisted action indicates that there will be no significant environmental impacts. As a result of these findings, Robert Jones, State Conservationist, has determined that the project should be completed as outlined in the assessment document.

The objective of the Big Delta State Historical Park Streambank Protection Project is to install streambank protection measures to control erosion and protect the historic district while minimizing disturbance to the fall chum spawning habitat. The selected alternative is a combination of Bio-engineering Methods including the construction of two rock vanes. Alternatives evaluated were No Action, Combination of Bio-Engineering Methods and Combination of Bio-Engineering Methods Including Construction of Two Vanes. The selected alternative is the combination of bio-engineering methods with the two rock vanes. This alternative was selected because it protects the river bank adjacent to the Big Delta State Historical Park, minimizes the constructed footprint in the fall chum spawning habitat, and maintains the aesthetic qualities of the site. The vanes result in no significant rise in the flood waters in Tanana River.

A limited number of copies of the EA are available to fill single copy requests at the above address. Basic data developed during the environmental assessment are on file and may be reviewed by contacting Robert Jones.

Further information on the proposed action may be obtained from Robert Jones, State Conservationist, at the above address.

Dated: July 9, 2005.
Robert Jones,
State Conservationist.

Finding of No Significant Impact

The National Environmental Policy Act of 1969 (NEPA) requires Federal agencies to prepare an Environmental Impact Statement (EIS) for major Federal actions significantly affecting the quality of the human environment. I have preliminarily determined, based upon the evaluation of impacts in the Environmental Assessment (EA), attached hereto and made a part hereof, and the reasons provided below, that there will be no significant individual or cumulative impacts on the quality of the human environment as a result of implementing the Big Delta State Historical Park Streambank Protection Project in Big Delta, Alaska. In particular, there will be none of the significant adverse impacts which NEPA is intended to help decision makers avoid and mitigate against. Therefore, an EIS is not required.

High water events in 1997 and 1998 led to accelerated rates of erosion along the bank of the Tanana River bordering Big Delta State Historical Park, particularly in front of Rika's Roadhouse. Big Delta Historic District is listed on the National Register of Historic Places. It is the only historic complex of buildings remaining in an in situ context within the Delta Junction area. The reach of the Tanana River bordering the Big Delta State Historical Park is a critical spawning area for fall chum and is considered essential fish habitat under the Magnuson-Stevens Act. The project purpose is to address 1000 feet of river bank erosion bordering the Big Delta State Historic Park while minimizing the impact to the fall chum salmon spawning habitat. Congress has authorized funding for this project in the Natural Resources Conservation Service (NRCS) budget.

Issues regarding impacts to the essential fish habitat in the Tanana River, cultural resources, vegetation, economic and other resource concerns were identified (EA, pages 10-14). Each of the alternatives considered in the EA is examined in regard to these concerns.

Three alternatives along with a “no action” alternative were examined (EA, pages 7-10). The alternatives provide various levels of riverbank protection for the Big Delta State Historical Park and varying levels of impacts to fall chum salmon spawning habitat. The selected alternative was Alternative 3, Combination of Bio-engineering Methods Including Construction of Two Rock Vanes. This alternative was selected because it protects the river bank adjacent to the Big Delta State Historical Park, minimizes the constructed footprint in the fall chum spawning habitat, and maintains the aesthetic qualities of the site (EA, page 15).

Based on the information presented in the attached Big Delta State Historical Park Streambank Protection Project EA, I find that the proposed action is not a major Federal action significantly affecting the quality of the human environment. Therefore, an EIS will not be prepared.

[FR Doc. 05-15379 Filed 8-3-05; 8:45 am]

BILLING CODE 3410-16-P